DEPARTMENT OF COMMERCE

National Institute of Standards and Technology

Notice of Government Owned Inventions Available for Licensing

AGENCY: National Institute of Standards and Technology, Commerce.

SUMMARY: The inventions listed below are owned in whole or in part by the U.S. Government, as represented by the Department of Commerce, and are available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (“CRADA”) with the licensee to perform further research on the inventions for purposes of commercialization. The inventions available for licensing are:

NIST Docket Number: 00-018US.

Title: Inorganic Non-metallic, Wire Bondable Top Surface Coating For Use In wire Bonding To Copper Metallization On Semiconductor Chips.

Abstract: The invention addresses the problem of electrically interconnecting copper metallized semiconductor ships to their packages with wire bonding. A thin, inorganic film is deposited such that it will break-up during the wire bonding process and be pushed aside. Selected film materials are compatible with and normally used for other purposes in wafer fabrication processing.

NIST Docket Number: 97-017C.

Title: Domain Engineered Ferroelectric Optical Radiation.

Abstract: The invention comprises a pyroelectric detector with significantly reduced microphonic noise sensitivity comprising a pyroelectric detector element constructed from a z-cut LiNBO3 electret. Selective domain reversal is accomplished in the electret by applying an electric field. Electrodes are attached to either surface of the electret spanning the domain reversed region and a portion of the original domain region to create areas of equal and opposite sensitivity. The detector is mounted in an electrically grounded container or housing. The detector may also be constructed having multiple detector regions to accommodate resonant frequencies of the electret or to function as a position sensor.

NIST Docket Number: 9-026US-Transfer.

Title: Modular Suspended Manipulator.

Abstract: A Cable-driven manipulator can precisely manipulate tools and loads using position, velocity and force control modes. The manipulator includes a plurality of cables (2 or more) that are independently controlled by modular, winch drive mechanisms and is coordinated to achieve intuitive manipulator movement in all sex degrees of freedom. The manipulator, consisting of modular sub-assemblies and components (i.e., winch, amplifier, servo interface and sensory feedback), can be rapidly reconfigured to adjust to new applications. The winches can be controlled manually by a multi-axis joystick, or can be automatically controlled by computer. the invention has applications in supporting and manipulating tools and equipment for welding, painting and stripping involving large structures.

NIST Docket Number: 99-035US.

Title: Normal Metal Boundary Conditions For Multi-layer TES Detectors.

Abstract: Described herein are multiplayer transition-edge sensor (TES) having improved performance, a method for preparing them and methods of using them. Specifically, the improvement lies in providing normal metal strips along the edges of the superconducting and normal metal layers parallel to the current flow in the TES during operation. These strips (hereinafter referred to as “banks”) provide for both improved detector performance and improved detector robustness against corrosion. This improvement is an important advance particularly for the TES-based microcalorimeter detector. The improved TESs also have many other applications based on the very precise thermometer function achieved by the TES.

Dated: July 5, 2001.
Karen H. Brown
Acting Director.

[FR Doc. 01-17295 Filed 7-10-01; 8:45 am]

BILLING CODE 3510-13-M